DEPARTMENT OF ENERGY

Federal Energy Regulatory Commission

[Docket Nos. CP05-83-000, CP05-84-000, CP05-85-000 and CP05-86-000]

Port Arthur LNG, L.P. Port Arthur Pipeline, L.P.; Notice of Public Meeting Cancellation and Extension of Comment Period for the Draft Environmental Impact Statement for Port Arthur LNG Project

September 27, 2005.

Because of damage in the area due to Hurricane Rita, the staff of the Federal Energy Regulatory Commission (Commission) is canceling its planned public comment meetings in Vinton, Louisiana and Port Arthur, Texas for the Draft Environmental Impact Statement (EIS) for the Port Arthur LNG Project until further notice. However, we are extending the period for public comment by 60 days. Comments are now due on December 16, 2005.

As a reminder, any person wishing to comment on the draft EIS may do so. To ensure consideration prior to a Commission decision on the proposal, it is important that we receive your comments before the date specified below. Please carefully follow these instructions to ensure that your comments are received in time and properly recorded:

• Send an original and two copies of your comments to: Magalie R. Salas, Secretary, Federal Energy Regulatory Commission, 888 First Street, NE., Room 1A, Washington, DC 20426.

• Reference Docket No. CP05-83-000 et al.;

• Label one copy of the comments for the attention of Gas Branch 2, PJ11.2; and

• Mail your comments so that they will be received in Washington, DC on or before December 16, 2005.

Please note that we will include all comments that we receive within a reasonable time frame in our environmental analysis of this Project. However, the Commission strongly encourages electronic filing of any comments or interventions to this proceeding. See 18 CFR 385.2001(a)(1)(iii) and the instructions on the Commission's Web site at http://www.ferc.gov under the “e-Filing” link and the link to the User's Guide. Before you can file comments you will need to create a free account, which can be created by clicking on “Login to File” and then “New User Account.”

Magalie R. Salas,
Secretary.

[FR Doc. E5-5412 Filed 9-30-05; 8:45 am]

BILLING CODE 6717-01-P